DEPARTMENT OF LABOR

Employment and Training Administration

[TA-W-50,838]

Fishing Vessell (F/V) Windy Sea, Kodiak, AK; Notice of Negative Determination Regarding Application for Reconsideration

By application dated May 9, 2003, the petitioner requested administrative reconsideration of the Department's negative determination regarding eligibility to apply for Trade Adjustment Assistance (TAA), applicable to workers and former workers of the subject firm. The denial notice was signed March 27, 2003, and published in the Federal Register on April 11, 2003 (68 FR 17831).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition was filed by the company official for workers producing salmon. The denial of TAA for the workers of F/V Windy Sea, Kodiak, Alaska, was based on the finding that the subject firm did not fish for salmon during 2002.

The petitioner, in the request for reconsideration, states that the worker group did not fish for salmon in 2002 because of the possibility of losing money due to intense foreign competition. As vessel owner, the petitioner explains that he and the crew would have lost money. The subject firm instead fished for halibut. The petitioner also provided information regarding his adjusted gross income, which included fishing halibut only in 2002, adding that fishing salmon in that year would not have increased income.

Since the petition was filed on behalf of workers producing salmon, and the workers did not fish for salmon during the relevant time period, the petition was denied.

Conclusion

After review of the application and investigative findings, I conclude that there has been no error or misinterpretation of the law or of the facts which would justify reconsideration of the Department of Labor's prior decision. Accordingly, the application is denied.

Signed at Washington, DC, this 5th day of August, 2003.
Linda G. Poole,
Certifying Officer, Division of Trade Adjustment Assistance.

[FR Doc. 03-21021 Filed 8-15-03; 8:45 am]

BILLING CODE 4510-13-P